DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final BFEs for each community are available for inspection at the office of the Chief Executive Officer of each community. The respective addresses are listed in the table below.

FOR FURTHER INFORMATION CONTACT: Doug Bellomo, P.E. Hazard Identification Section, Emergency Preparedness and Response Directorate, Federal Emergency Management Agency, 500 C Street SW., Washington, DC 20472, (202) 646-2903.

SUPPLEMENTARY INFORMATION: FEMA makes the final determinations listed below of BFEs and modified BFEs for each community listed. The proposed BFEs and proposed modified BFEs were published in newspapers of local circulation and an opportunity for the community or individuals to appeal the proposed determinations to or through the community was provided for a period of ninety (90) days. The proposed BFEs and proposed modified BFEs were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground *Elevation in feet (NGVD) +Elevation in feet (NAVD)
COLORADO
City and County, Broomfield (FEMA Docket No.# B-7439)
Rock Creek:
At Brainard Drive (Country Road 19) | *5,309
Approximately 200 feet upstream of West Flatiron Bridge | +5,373
Maps are available for inspection at City Hall, One Descombes Drive, Broomfield, Colorado.
IDAHO
Kootenai County, (FEMA Docket No.# B-7439)
Coeur d'Alene River:
Approximately 1.5 miles downstream of Interstate Highway 90 | *2,145
Approximately 100 feet upstream of the Abandoned Union Pacific Railroad | *2,151
Coeur d'Alene River Overflow:
At Tamarack Ridge Road Mission Flats area north of Interstate 90 | *2,145
Maps are available for inspection at the Kootenai County Planning Department, 451 Government Way, Coeur d'Alene, Idaho.

Source of flooding and location | #Depth in feet above ground *Elevation in feet (NGVD) +Elevation in feet (NAVD) | Communities affected
WYOMING
Natrona County (FEMA Docket No.# B-7435)
Casper Creek:
Approximately 300 feet upstream from the confluence with North Platte River | *5,116 | Natrona County (Uninc. Areas), and Town of Mills.
Approximately 4 miles upstream of State Highway 26 (West Chase Road) | *5,199
Eastdale Creek:
Approximately 1,250 feet downstream of East Yellowstone Highway | *5,103 | Natrona County (Uninc. Areas), and City of Casper.
Approximately 100 feet downstream of Wyoming Boulevard | *5,482
East Branch Eastdale Creek:
At the confluence with the Eastdale Creek | *5,292 | Natrona County (Uninc. Areas).
Just downstream of Wyoming Boulevard | *5,480
Elkhorn Creek:
At the confluence with the North Platte River | *5,077 | Natrona County (Uninc. Areas), Town of Evansville, and City of Casper.
Approximately 4,500 feet upstream of Interstate 25 | *5,184
Approximately 6,500 feet upstream of Spring Creek Branch Road | *5,972
Garden Creek:
Approximately 100 feet upstream of Garden Creek Road | *5,619 | Natrona County (Uninc. Areas).
Approximately 1,700 feet upstream of Garden Creek Road | *6,313
Garden Creek, West Branch:
At the confluence with Garden Creek | *5,684 | Natrona County (Uninc. Areas).
Approximately 2,300 feet upstream of Garden Creek Road | *6,634
North Platte River:
Approximately 800 feet upstream of U.S. Highway 20 and 26 | *5,116 | Town of Mills.
Approximately 2,000 feet upstream of Wyoming Boulevard | *5,120
ADDRESSES:
Unincorporated Areas Natrona County:
Maps are available for inspection at the Natrona County Annex, 120 West First Street, Suite 200, Casper, Wyoming.
Town of Evansville:
Maps are available for inspection at the Evansville Town Hall, 235 Curtis Street, Evansville, Wyoming.
City of Casper:
Maps are available for inspection at City Hall, 200 North David Street, Casper, Wyoming.
Town of Mills:
Maps are available for inspection at the Town of Mills, Town Hall, 704 4th Street, Mills, Wyoming.

(Catalog of Federal Domestic Assistance No. 83.100, “Flood Insurance.”)

Dated: March 24, 2004.
Anthony S. Lowe,
Mitigation Division Director, Emergency Preparedness and Response Directorate.

[FR Doc. 04-7440 Filed 4-1-04; 8:45 am]

BILLING CODE 9110-12-P